DEPARTMENT OF ENERGY

Federal Energy Regulatory Commission

[Docket No. IC00-538-001]

Information Collection Submitted for Review and Request for Comments

November 1, 2000.

AGENCY: Federal Energy Regulatory Commission, DOE.

ACTION: Notice of submission for review by the Office of Management and Budget (OMB) and request for comments.

SUMMARY: The Federal Energy Regulatory Commission (Commission) has submitted the energy information collection listed in this notice to Office of Management and Budget (OMB) for review under provisions of Section 3507 of the Paperwork Reduction Act of 1995 (Pub. L. 104-13). Any interested person may file comments on the collection of information directly with OMB and should address a copy of those comments to the Commission as explained below. The Commission received no comments in response to an earlier Federal Register notice of June 15, 2000 (65 FR 37533) and has made this notation in its submission to OMB.

DATES: Comments regarding this collection of information are best assured of having their full effect if received on or before December 7, 2000.

ADDRESSES: Address comments to Office of Management and Budget, Office of Information and Regulatory Affairs, Attention: Federal Energy Regulatory Commission, Desk Officer, 725 17th Street, NW., Washington, DC 20503. A copy of the comments should also be sent to Federal Energy Regulatory Commission, Office of the Chief Information Officer, Attention: Mr. Michael Miller, 888 First Street NE., Washington, DC 20426.

FOR FURTHER INFORMATION CONTACT: Michael Miller may be reached by telephone at (202) 208-1415, by fax at (202) 208-2425, and by e-mail at mike.miller@ferc.fed.us.

SUPPLEMENTARY INFORMATION:

Description

The energy information collection submitted to OMB for review contains:

1. Collection of Information: FERC-538 “Gas Pipeline Certificate: Section 7(a) Mandatory Initial Service”

(2) Sponsor: Federal Energy Regulatory Commission.

(3) Control No.: OMB No. 1902-0061. The Commission is now requesting that OMB approve a three-year extension of the current expiration date, with no changes to the existing collection. This is a mandatory collection requirement.

(4) Necessity of Collection of Information: Submission of the information is necessary to enable the Commission to carry out its responsibilities in implementing the provisions of the natural Gas Act (NGS). The information reported under Commission identifier FERC-538 is filed in accordance with Sections 7(a), 10(a) and 16 of the NGA (15 U.S.C. 717-717W). Under the NGA when a local distribution company or municipality makes an application, a natural gas pipeline company may be ordered by the Commission to extend or improve transportation facilities, establish physical connections to serve the entity, and sell natural gas to the applicant. Filings in accordance with Section 7(a) of the NGA are to contain all information necessary to advise the Commission fully concerning the service which the applicant has requested the Commission direct a natural gas pipeline company to provide. Included in the information to be provided should be a description of any improvement or extension of facilities which the natural gas pipeline company will be required to make in connection with the requested service, the applicant's present and proposed operations, construction, service, and sales in order to enable the applicant to engage in the local distribution of natural gas.

5. Respondent Description: The respondent universe currently comprises on average, 1 applicant for initial service.

6. Estimated Burden: 240 total burden hours, 1 respondent, 1 response annually, 240 hours per response (average).

7. Estimated Cost Burden to Respondents: 240 hours ÷ 2,080 hours per year × $115,357 per year = $13,310.

Statutory Authority: Sections 7(a), 10(a), and 16 of the Natural Gas Act (NGA), (15 U.S.C. 717-717w).

David P. Boergers,
Secretary.

[FR Doc. 00-28466 Filed 11-6-00; 8:45 am]

BILLING CODE 6717-01-M